DEPARTMENT OF COMMERCE

International Trade Administration

[C-533-856]

Steel Threaded Rod from India: Postponement of Preliminary Determination of Countervailing Duty Investigation

AGENCY: Import Administration, International Trade Administration, Department of Commerce

DATES: Effective Date: September 12, 2013.

FOR FURTHER INFORMATION CONTACT: Brooke Kennedy, AD/CVD Operations, Office 8, Import Administration, International Trade Administration, U.S. Department of Commerce, 14th Street and Constitution Avenue NW., Washington, DC 20230; telephone: (202) 482-3818.

SUPPLEMENTARY INFORMATION:

Background

On July 17, 2013, the Department of Commerce (“the Department”) initiated a countervailing duty investigation on steel threaded rod from India.¹ The current deadline for the preliminary determination of this investigation is no later than September 20, 2013.

¹ See Steel Threaded Rod From India: Initiation of Countervailing Duty Investigation, 78 FR 44532 (July 24, 2013).

Postponement of Preliminary Determination

Section 703(b)(1) of the Tariff Act of 1930, as amended (“the Act”), requires the Department to issue the preliminary determination in a countervailing duty investigation within 65 days after the date on which the Department initiated the investigation. However, if the Department concludes that the parties concerned are cooperating and determines that the case is extraordinarily complicated and that additional time is necessary to make the preliminary determination, section 703(c)(1)(B) of the Act allows the Department to postpone making the preliminary determination until no later than 130 days after the date on which the administering authority initiated the investigation. We have concluded that the parties concerned are cooperating and that the case is extraordinarily complicated due to the complexity of the alleged subsidy programs, such that we need more time to make the preliminary determination. Specifically, the analysis of two of the alleged subsidy programs will involve not only the usual consideration of financial contribution and specificity, but will also involve the more complex consideration of whether the program has been terminated and, if so, whether there are any residual benefits. In addition, any analysis of the National Manufacturing Competitiveness Program—Marketing Assistance Scheme is likely to be complex as the program allegedly provides for a variety of subsidies including grants for rental space, freight charges, airfare and advertising. The deadline for completion of the preliminary determination is now November 25, 2013.²

² As the actual due date of November 24, 2013 falls on a weekend, the preliminary determination is due the next business day, i.e., November 25, 2013. See Notice of Clarification: Application of “Next Business Day” Rule for Administrative Determination Deadlines Pursuant to Tariff Act of 1930, As Amended, 70 FR 24533 (May 10, 2005).

We also note that, on September 3, 2013, All America Threaded Products Inc., Bay Standard Manufacturing Inc., and Vulcan Threaded Products Inc., the petitioners in this investigation, requested that the deadline for the preliminary determination be postponed to 130 days from the date of initiation in accordance with 19 CFR 351.205(b)(2). This notice is issued and published pursuant to section 703(c)(2) of the Act. ³

³ We acknowledge that the Department inadvertently did not notify the parties to this investigation of this postponement within the timeframe provided in section 703(c)(2) of the Act.

September 6, 2013.
Paul Piquado,
Assistant Secretary for Import Administration.

[FR Doc. 2013-22225 Filed 9-11-13; 8:45 am]

BILLING CODE 3510-DS-P